DEPARTMENT OF TRANSPORTATION

Federal Aviation Administration

14 CFR Part 39

[Docket No. FAA-2017-0911; Product Identifier 2017-CE-025-AD; Amendment 39-19121; AD 2017-25-07]

RIN 2120-AA64

Airworthiness Directives; Alexander Schleicher GmbH & Co. Segelflugzeugbau Gliders

AGENCY: Federal Aviation Administration (FAA), Department of Transportation (DOT).

ACTION: Final rule.

SUMMARY: We are adopting a new airworthiness directive (AD) for all Alexander Schleicher GmbH & Co. Segelflugzeugbau Models ASH 25M and ASH 26E gliders. This AD results from mandatory continuing airworthiness information (MCAI) issued by an aviation authority of another country to identify and correct an unsafe condition on an aviation product. The MCAI describes the unsafe condition as fatigue cracks found on the exhaust silencer. We are issuing this AD to require actions to address the unsafe condition on these products.

DATES: This AD is effective January 18, 2018.

The Director of the Federal Register approved the incorporation by reference of a certain publication listed in this AD as of January 18, 2018.

ADDRESSES: You may examine the AD docket on the internet at http://www.regulations.gov by searching for and locating Docket No. FAA-2017-0911; or in person at Document Management Facility, U.S. Department of Transportation, Docket Operations, M-30, West Building Ground Floor, Room W12-140, 1200 New Jersey Avenue SE, Washington, DC 20590.

For service information identified in this AD, contact Alexander Schleicher GmbH & Co. Segelflugzeugbau, Alexander-Schleicher-Str. 1, D-36163 Poppenhausen, Germany; phone: +49 (0) 06658 89-0; fax: +49 (0) 06658 89-40; internet: http://www.alexander-schleicher.de; email: info@alexander-schleicher.de. You may view this referenced service information at the FAA, Policy and Innovation Division, 901 Locust, Kansas City, Missouri 64106. For information on the availability of this material at the FAA, call (816) 329-4148. It is also available on the internet at http://www.regulations.gov by searching for Docket No. FAA-2017-0911.

FOR FURTHER INFORMATION CONTACT: Jim Rutherford, Aerospace Engineer, FAA, Small Airplane Standards Branch, 901 Locust, Room 301, Kansas City, Missouri 64106; telephone: (816) 329-4165; fax: (816) 329-4090; email: jim.rutherford@faa.gov.

SUPPLEMENTARY INFORMATION:

Discussion

We issued a notice of proposed rulemaking (NPRM) to amend 14 CFR part 39 by adding an AD that would apply to all Alexander Schleicher GmbH & Co. Segelflugzeugbau Models ASH 25M and ASH 26E gliders. The NPRM was published in the Federal Register on September 22, 2017 (82 FR 44361). The NPRM proposed to correct an unsafe condition for the specified products and was based on mandatory continuing airworthiness information (MCAI) originated by an aviation authority of another country. The MCAI states:

Occurrences were reported of finding cracks on exhaust silencer part number (P/N) 800.65.0001, installed on ASK 21 Mi powered sailplanes. Subsequent investigation determined that the affected part is susceptible to fatigue cracking and is also installed on other Schleicher powered sailplanes.

This condition, if not corrected, could lead to heat damage in the engine compartment and to the engine installation, possibly resulting in reduced control of the powered sailplane.

To address this potentially unsafe condition, Schleicher issued Technical Note (TN) ASK 21 Mi No. 11, TN ASW 22 BLE 50R No. 16, TN ASH 25 M/Mi No. 32 and TN ASH 26 E No. 19 (single document, hereafter referred to as `the TN' in this [EASA] AD), to provide replacement instructions.

For the reasons described above, this [EASA] AD requires replacement of the affected exhaust silencer with an improved part and introduces installation restrictions of a part with P/N 800.65.0001].

The MCAI can be found in the AD docket on the internet at https://www.regulations.gov/document?D=FAA-2017-0911-0002.

Comments

We gave the public the opportunity to participate in developing this AD. We received no comments on the NPRM or on the determination of the cost to the public.

Conclusion

We reviewed the relevant data and determined that air safety and the public interest require adopting this AD as proposed except for minor editorial changes. We have determined that these minor changes:

• Are consistent with the intent that was proposed in the NPRM for correcting the unsafe condition; and

• Do not add any additional burden upon the public than was already proposed in the NPRM.

Related Service Information Under 1 CFR Part 51

We reviewed Alexander Schleicher GmbH & Co. Segelflugzeugbau ASK 21 Mi Technical Note No. 11, ASW 22 BLE 50R Technical Note No. 16, ASH 25 M/Mi Technical Note No. 32, ASH 26 E Technical Note No. 19 (single document), dated January 8, 2016. The service information describes procedures for replacing the exhaust silencer with an improved part. This service information is reasonably available because the interested parties have access to it through their normal course of business or by the means identified in the ADDRESSES section of this AD.

Costs of Compliance

We estimate that this AD will affect 35 products of U.S. registry. We also estimate that it will take about 8 work-hours per product to comply with the basic requirements of this AD. The average labor rate is $85 per work-hour. Required parts will cost about $3,900 per product.

Based on these figures, we estimate the cost of this AD on U.S. operators to be $160,300, or $4,580 per product.

We have no way of determining the number of products that have an affected exhaust silencer, part number 800.65.0001, installed that will need to be replaced. Therefore, this cost estimate includes all affected gliders on the U.S. registry.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, and domestic business jet transport airplanes to the Director of the Policy and Innovation Division.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the internet at http://www.regulations.gov by searching for and locating Docket No. FAA-2017-0911; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2017-25-07 Alexander Schleicher GmbH & Co. Segelflugzeugbau: Amendment 39-19121; Docket No. FAA-2017-0911; Product Identifier 2017-CE-025-AD.

(a) Effective Date

This airworthiness directive (AD) becomes effective January 18, 2018.

(b) Affected ADs

None.

(c) Applicability

This AD applies to Alexander Schleicher GmbH & Co. Segelflugzeugbau Models ASH 25M and ASH 26E gliders, all serial numbers, that:

(1) Have an exhaust silencer, part number (P/N) 800.65.0001, installed; and

(2) are certificated in any category.

(d) Subject

Air Transport Association of America (ATA) Code 78: Engine Exhaust.

(e) Reason

This AD was prompted by mandatory continuing airworthiness information (MCAI) originated by an aviation authority of another country to identify and correct an unsafe condition on an aviation product. The MCAI describes the unsafe condition as fatigue cracks found on the exhaust silencer. We are issuing this AD to prevent heat damage in the engine compartment and to the engine installation, which could result in reduced control.

(f) Actions and Compliance

Unless already done, do the following actions:

(1) Before exceeding 150 hours time-in-service (TIS) on the exhaust silencer, P/N 800.65.0001, since new, or within the next 5 hours TIS after January 18, 2018 (the effective date of this AD), whichever occurs later, replace P/N 800.65.0001 with an improved exhaust silencer, P/N 800.65.9010. Do the replacement as specified in Alexander Schleicher GmbH & Co. Segelflugzeugbau ASK 21 Mi Technical Note No. 11, ASW 22 BLE 50 R Technical Note No. 16, ASH 25 M/Mi Technical Note No. 32, ASH 26 E Technical Note No. 19 (single document), dated January 8, 2016.

(2) As of January 18, 2018 (the effective date of this AD), do not install a P/N 800.65.0001 exhaust silencer.

(g) Other FAA AD Provisions

The following provisions also apply to this AD:

(1) Alternative Methods of Compliance (AMOCs): The Manager, Small Airplane Standards Branch, FAA, has the authority to approve AMOCs for this AD, if requested using the procedures found in 14 CFR 39.19. Send information to ATTN: Jim Rutherford, Aerospace Engineer, FAA, Small Airplane Standards Branch, 901 Locust, Room 301, Kansas City, Missouri 64106; telephone: (816) 329-4165; fax: (816) 329-4090; email: jim.rutherford@faa.gov. Before using any approved AMOC on any glider to which the AMOC applies, notify your appropriate principal inspector (PI) in the FAA Flight Standards District Office (FSDO), or lacking a PI, your local FSDO.

(2) Contacting the Manufacturer: For any requirement in this AD to obtain corrective actions from a manufacturer, the action must be accomplished using a method approved by the Manager, Small Airplane Standards Branch, FAA; or the European Aviation Safety Agency (EASA).

(h) Related Information

Refer to MCAI EASA AD 2017-0136, dated July 31, 2017, for related information. You may examine the MCAI on the internet at https://www.regulations.gov/document?D=FAA-2017-0911-0002.

(i) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Alexander Schleicher GmbH & Co. Segelflugzeugbau ASK 21 Mi Technical Note No. 11, ASW 22 BLE 50R Technical Note No. 16, ASH 25 M/Mi Technical Note No. 32, ASH 26 E Technical Note No. 19 (single document), dated January 8, 2016.

(ii) Reserved.

(3) For Alexander Schleicher GmbH & Co. Segelflugzeugbau service information identified in this AD, contact Alexander Schleicher GmbH & Co. Segelflugzeugbau, Alexander-Schleicher-Str. 1, D-36163 Poppenhausen, Germany; phone: +49 (0) 06658 89-0; fax: +49 (0) 06658 89-40; internet: http://www.alexander-schleicher.de; email: info@alexander-schleicher.de.

(4) You may view this service information at the FAA, Policy and Innovation Division, 901 Locust, Kansas City, Missouri 64106. For information on the availability of this material at the FAA, call (816) 329-4148. In addition, you can access this service information on the internet at http://www.regulations.gov by searching for and locating Docket No. FAA-2017-0911.

(5) You may view this service information that is incorporated by reference at the National Archives and Records Administration (NARA). For information on the availability of this material at NARA, call 202-741-6030, or go to: http://www.archives.gov/federal-register/cfr/ibr-locations.html.

Issued in Kansas City, Missouri, on December 1, 2017.
Melvin J. Johnson,
Deputy Director, Policy & Innovation Division, Aircraft Certification Service.

[FR Doc. 2017-26620 Filed 12-13-17; 8:45 am]

BILLING CODE 4910-13-P